SOCIAL SECURITY ADMINISTRATION

[Docket No: SSA-2021-0023]

Agency Information Collection Activities: Comment Request

The Social Security Administration (SSA) publishes a list of information collection packages requiring clearance by the Office of Management and Budget (OMB) in compliance with Public Law 104-13, the Paperwork Reduction Act of 1995, effective October 1, 1995. This notice includes one revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0021].

(SSA), Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2021-0023].

SSA submitted the information collection below to OMB for clearance. Your comments regarding this information collection would be most useful if OMB and SSA receive them 30 days from the date of this publication. To be sure we consider your comments, we must receive them no later than September 10, 2021. Individuals can obtain copies of this OMB clearance package by writing to OR.Reports.Clearance@ssa.gov.

1. Work-Disability Functional Assessment Battery (WD-FAB)—0960-NEW

Background

SSA uses continuing disability reviews (CDR) to determine continued eligibility of program benefits for Social Security disability insurance (SSDI), and Supplemental Security Income (SSI) recipients. SSA is requesting clearance to administer the Work-Disability Functional Assessment Battery (WD-FAB) assessment to a sample of working-age SSDI and SSI program recipients who are due for their CDR. The WD-FAB is a self-reported assessment measuring whole person-functioning at the activity level for eight work-related functional domains: (1) Basic Mobility; (2) Upper Body Function; (3) Fine Motor Function; (4) Community Mobility; (5) Communication and Cognition; (6) Resilience and Sociability; (7) Self- Regulation; and (8) Mood and Emotion. SSA will use the data the WD-FAB collects to assess the feasibility and value of incorporating the WD-FAB into SSA's CDR process with the intent of improving the CDR process. Section 1110(a) of the Social Security Act (Act) gives the Commissioner of Social Security the authority to help fund research or demonstration projects relating to the prevention and reduction of dependency. SSA contracted with Westat to conduct the WD-FAB data collection.

WD-FAB Project Description

To assess the feasibility of incorporating the WD-FAB into the CDR process, this study will conduct two assessments. The first assessment is a baseline assessment of the WD-FAB and the second assessment, which we will conduct with the same individuals six months later, will detect any changes. Each survey will include three main components: Classification questions, WD-FAB questions, and follow-up questions. The classification questions and WD-FAB questions will be identical in each survey.

Survey 1 will cover questions in the following domains:

• Classification questions:

○ Demographic questions (age, gender, race, ethnicity, marital status, highest level of education completed);

○ Questions on general health, mental health status, and work-limiting conditions;

○ 4-item set of Healthy Days core questions included in the state-based Behavioral Risk Factor Surveillance System;

○ Questions from Form SSA-455, Disability Update Report

• Veterans Item Health Survey;

• Items from WD-FAB; and

• 3-5 follow-up questions to solicit feedback on the WD-FAB about ease of use, clarity of instructions, and perceived burden.

Survey 2 will include the same classification questions included in Survey 1, and we will record responses using the WD-FAB Computer Assisted Telephone (CAT) system. CAT interviewers and respondents who complete the surveys via the web will access the same web version of the survey instruments ensuring data consistency between these two modes of data collection. The CAT methodology uses a computer interface that rapidly tailors questions to the unique ability level of each claimant, allowing for fewer items to be administered, while providing an assessment that is proven to be accurate, precise, comprehensive, and efficient. Follow-up questions for Survey 2 will include 52 effort and symptom validity questions to examine certain symptoms related to function.

Data collection for Survey 1 will begin in November 2021 and extend for 12 weeks through January 2022. The target goal for Survey 1 is to obtain 2,400 completed surveys from a participant pool of at least 4,000 beneficiaries.

Data collection for Survey 2 will begin in April 2022, approximately 6 months after Survey 1, and continue for 3 months through June 2022. For Survey 2, we will initiate contact with the 2,400 beneficiaries who complete Survey 1. The target goal for Survey 2 is to obtain 1,600 completed surveys.

Recruitment

Participant recruitment will include multiple modes of contact. We will initiate contact by mailing a study invitation package. The study invitation package will include the following items:

1. An invitation letter explaining the study and notifying selected recipients that we will call them soon;

2. A study consent form explaining the background of the study, what will happen during the study, the risks and benefits associated with participating, and their rights as a study participant; and

3. Instructions to download the study smartphone app to facilitate study participation.

Following the mailing of the study invitation package, we will call recipients to conduct a short screener to ensure we are speaking to the sampled recipient and confirm that the recipient is eligible for the study. Eligibility criteria include aged 18 or over, ability to understand English, and ability to provide informed consent.

To assess ability to provide informed consent, interviewers will read aloud a brief description of the study and then ask participants to name one thing participation involves. This vetted question will be a check for cognitive ability to provide consent. Failure to name one thing will deem the recipient ineligible for the study due to inability to provide informed consent.

If the recipient is able to provide informed consent, the interviewer will review the main points on the consent form over the phone with the beneficiary. This will include:

• The voluntary nature of the study;

• That the study will not directly benefit them;

• Their rights as study participants;

• That they can withdraw at any time;

• Information on who to call if they have questions about their rights as research participants.

The interviewer will then ask the recipient if they want to participate in the study and collect verbal informed consent. After collecting consent, interviewers will collect contact information from the recipient including home address, preferred telephone numbers, and email addresses. Interviewers will obtain permission to send reminders via text message for respondents with cell phones. We will send electronic reminders to participants about survey completion and to keep in touch with respondents between each wave of data collection. We will confirm the recipient's address to mail incentives after survey completion.

At the close of the screener, recipients will have the option of completing the survey online themselves or over the telephone with an interviewer. Recipients who opt to do the survey with an interviewer on the phone will be given the opportunity to do the survey immediately following the screener, or at a later date and time that is convenient for the recipient. The interviewer will schedule an appointment to call the recipient at their preferred date and time. We will ask recipients who opt to complete the survey on the web to provide a valid email address where they can receive information about how to access the web survey. The recipient will receive an email with the survey URL and instructions for logging on. Recipients who elect to complete Survey 1 or Survey 2 on their own via the web will also receive email reminders if they have not started the web survey within four days and another emailed reminder on day 5. We will administer the eligibility screener via telephone and obtain consent prior to each survey. Survey participants will receive a gift card in the amount of $50 and $75 as a reimbursement for completing Survey 1 and Survey 2, respectively. The respondents are Study participants who are receiving SSA disability payments.

Type of Request: Request for a new information collection.

WD-FAB Survey 1
Modality of completion | Number of respondents | Frequency of response | Average burden per response (minutes) | Estimated total annual burden (hours) | Average theoretical hourly cost amount (dollars) * | Total annual opportunity cost (dollars) **
Survey 1 competency screening and informed consent | 4,500 | 1 | 5 | 375 | * $10.95 | ** $4,106
Survey 1 (respondents) | 5,600 | 1 | 50 | 4,667 | * 10.95 | ** 51,104
Total | 10,100 |  |  | 5,042 |  | 55,210

WD-FAB Survey 2
Modality of Completion | Number of resplondents | Frequency of response | Average burden per response (minutes) | Estimated total annual burden (hours) | Average theoretical hourly cost amount (dollars) * | Total annual opportunity cost (dollars) **
Survey 2 competency screener | 2,400 | 1 | 5 | 200 | * $10.95 | ** $2,190
Survey 2 (respondents) | 3,200 | 1 | 75 | 4,000 | * 10.95 | ** 43,800
Total | 5,600 |  |  | 4,200 |  | 45,990

WD-FAB Grand Total Burden Figures
Modality of Completion | Number of resplondents | Frequency of response | Average burden per response (minutes) | Estimated total annual burden (hours) | Average theoretical hourly cost amount (dollars) * | Total annual opportunity cost (dollars) **
Totals | 15,700 |  |  | 9,242 |  | $101,200
* We based this figure on the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

Dated: August 5, 2021.
Naomi Sipple,
Reports Clearance Officer, Social Security Administration.

[FR Doc. 2021-17067 Filed 8-10-21; 8:45 am]

BILLING CODE 4191-02-P